DEPARTMENT OF TRANSPORTATION

Federal Aviation Administration

14 CFR Part 129

Changes to the International Aviation Safety Assessment (IASA) Program

AGENCY: Federal Aviation Administration (FAA), DOT.

ACTION: Policy statement.

SUMMARY: This notice describes recent policy changes to the FAA's International Aviation Safety Assessment (IASA) program, which involves assessing whether another country's oversight of its air carriers that operate, or seek to operate, into the United States complies with minimum international standards for aviation safety. The FAA is making these changes as it commences a new phase of the IASA program following the completion of initial determinations on the safety oversight exercised by virtually all countries whose air carriers operate, or have applied to operate, to the United States. This notice modifies the IASA policies previously announced by the FAA.

DATES: This policy modification is effective May 25, 2000. Comments on this policy may be directed to the address below.

ADDRESSES: Send comments to Federal Aviation Administration, Office of Public Affairs, 800 Independence Avenue, SW, Washington, DC 20591.

FOR FURTHER INFORMATION CONTACT: Mr. Lynn Jensen, International Liaison Staff, AFS-50, Flight Standards Service, Federal Aviation Administration, 800 Independence Avenue, SW, Washington, DC 20591; (202) 267-3719.

SUPPLEMENTARY INFORMATION:

Background

The policy announced at 57 FR 38342, August 24, 1992, described how the FAA would assess whether a foreign civil aviation authority (CAA) complied with the minimum international standards for aviation safety oversight established by the International Civil Aviation Organization (ICAO). In obtaining information relevant to its assessment, the FAA meets with the foreign CAA responsible for providing the safety oversight to its carriers, reviews pertinent records and meets with officials of the subject foreign air carriers. The FAA then analyzes the collected information to determine whether the CAA complies with ICAO standards regarding the oversight provided to the air carriers under its authority. This determination is part of the basis for FAA recommended courses of action to the Department of Transportation on the initiation, continuation, or expansion of air service to the United States by the carriers overseen by that CAA. The IASA program applies to all foreign countries with air carriers proposing or have existing air service to the United States under an economic authority issued by the Department

The policy announced at 59 FR 46332, September 8, 1994, concerned the FAA's decision to publicly disclose the results of FAA assessments. In connection with the public disclosure policy, the FAA established three categories of ratings for countries to signify the status of a CAA's compliance with minimum international safety standards: Category I (Acceptable), Category II (Conditional), and Category III (Unacceptable). Category II or III apply to countries whose CAAs are found not to be providing safety oversight in compliance with the minimum international standards established by ICAO. The FAA normally places a country in Category II if one of its carriers provided air service to the United States at the time of the FAA assessment. The FAA places a country in Category III if none of its carriers provided air service to the United States at the time of the FAA assessment. Carriers from Category II countries are permitted to maintain, but not expand, current levels of service under heightened FAA surveillance. Carriers from Category III countries are not permitted to commence service to the United States.

Program and Public Disclosure Changes

Sources of Information on Safety Oversight

The FAA has a continuing obligation to ensure that CAAs comply with minimum international standards for safety oversight. In collecting information to support its assessment findings, the FAA will continue to rely, when necessary, on meetings with CAA and airline officials and reviewing pertinent documents. The FAA also will make use of other sources of information on CAA compliance with minimum international standards for safety oversight. These sources may include other qualified entities (e.g., the European Joint Aviation Authorities or ICAO) considered reliable by the FAA.

Categorization of Results of FAA Assessments

As in the past, assessment determinations will continue to be publicly disclosed. However, FAA will only use two categories in the future, i.e., Category 1 (in compliance with minimum international standards for aviation safety) and Category 2 (not in compliance with minimum international standards for aviation safety). This change is being made to eliminate any confusion that has resulted from having two different categories regarding non-compliance with ICAO standards. We believe that there has been a misimpression created that being in Category II reflects a higher degree of compliance with ICAO standards than being in Category III. To correct this misimpression and make clear that no inferences should be drawn about relative degrees of ICAO compliance, we are deleting Category III and redefining Category II as follows:

Category 2. The Federal Aviation Administration assessed this country's civil aviation authority and determined that it does not provide safety oversight of its air carrier operators in accordance with the minimum safety oversight standards established by the International Civil Aviation Organization (ICAO). This rating is applied if one or more of the following deficiencies are identified: (1) The country lacks laws or regulations necessary to support the certification and oversight of air carriers in accordance with minimum international standards; (2) the CAA lacks the technical expertise, resources, and organization to license or oversee air carrier operations; (3) the CAA does not have adequately trained and qualified technical personnel; (4) the CAA does not provide adequate inspector guidance to ensure enforcement of, and compliance with, minimum international standards, and (5) the CAA has insufficient documentation and records of certification and inadequate continuing oversight and surveillance of air carrier operations. This category consists of two groups of countries.

One group are countries that have air carriers with existing operations to the United States at the time of the assessment. While in Category 2 status, carriers from these countries will be permitted to continue operations at current levels under heightened FAA surveillance. Expansion or changes in services to the United States by such carriers are not permitted while in category 2, although new services will be permitted if operated using aircraft wet-leased from a duly authorized and properly supervised U.S. carrier or a foreign air carrier from a category 1 country that is authorized to serve the United States using its own aircraft.

The second group are countries that do not have air carriers with existing operations to the United States at the time of the assessment. Carriers from these countries will not be permitted to commerce service to the United States while in Category 2 status, although they may conduct services if operated using aircraft wet-leased from a duly authorized and properly supervised U.S. carrier or a foreign air carrier from a Category 1 country that is authorized to serve the United States with its own aircraft.

No other difference is made between these two groups of countries while in a category 2 status.

Transition to New IASA Categorization System

Countries in the former Category I will initially be placed in the new Category 1 (in compliance with ICAO Standards). Countries in the former Categories II and III will initially be placed in the new Category 2 (not in compliance with ICAO standards). For those countries not serving the U.S. at the time of the assessment, an asterisk “*” will be added to their Category 2 determination.

The FAA will review the category determinations of all countries included in the IASA categorization scheme at least once every two years, or when new information becomes available which calls into question the country's ability to continue complying with minimum standards for aviation safety. The purpose of such reviews is to determine if a country's CAA continues to comply with minimum international standard for aviation safety (Category I) or is making sustainable progress toward compliance (Category 2). After each such review, the FAA will update the appropriate public disclosure.

The FAA will continue to work with countries to improve safety oversight capabilities in cases where the assessment process has revealed deficiencies. When FAA determines that sustainable progress is not being made, or is not possible under the prevailing circumstances in the country, it may advise the Office of the Secretary that the subject country has not made significant progress in correcting its safety oversight deficiencies and recommend a course of action to review the status of all authorities issued to carriers of that country.

Current IASA category determinations for countries included in the IASA categorization system are available on the FAA web-site at http://www.faa.gov/avr/isa.htm

Issued in Washington, DC on May 15, 2000.
Thomas E. McSweeny,
Associate Administrator for Regulation and Certification.

[FR Doc. 00-13179 Filed 5-24-00; 8:45 am]

BILLING CODE 4910-13-M